DEPARTMENT OF HEALTH AND HUMAN SERVICES

President's Council on Physical Fitness and Sports

AGENCY: Office of the Secretary, Office of Public Health and Science.

ACTION: Notice of meeting.

SUMMARY: As stipulated by the Federal Advisory Committee Act, the Department of Health and Human services (DHHS) is hereby giving notice that the President's Council on Physical Fitness and Sports will hold a meeting. This meeting is open to the public. A description of the Council's functions is included also with this notice.

DATE AND TIME: April 10, 2000, from 9 am to 5 pm.

ADDRESSES: Department of Health and Human Services, Room 800 Hubert H. Humphrey Building, 200 Independence Avenue, SW, Washington, DC 20201.

FOR FURTHER INFORMATION CONTACT: Sandra Perlmutter, Executive Director, President's Council on Physical Fitness and Sports, Room 738H Hubert H. Humphrey Building, 200 Independence Avenue, SW, Washington, DC 20201, (202) 690-5187.

SUPPLEMENTARY INFORMATION: The President's Council on Physical Fitness and Sports (PCPHS) was established in 1956 by President Eisenhower after published reports indicted that American boys and girls were unfit compared to the children of Western Europe.

The Council has undergone two name changes and several reorganizations before arriving at its present status as a program office within the Office of Public Health and Science in the Department of Health and Human Services. It currently operates under directives issued in Executive Order 12345, as amended. PCPFS serves as a catalyst to promote, encourage, and motivate the development of physical fitness and sports participation for all ages. The primary functions of the Council include (1) to advise the President and Secretary concerning progress made in carrying out the provisions of the Executive Order and recommend to the President and Secretary, as necessary, actions to accelerate progress; (2) to advise the Secretary on matters pertaining to the ways and means of enhancing opportunities for participation in physical fitness and sports actions to extend and improve physical activity programs and services; and (3) to advise the Secretary of State, local, and private actions to extend and improve physical activity programs and services.

This meeting of the Council is being held to (1) administer the oath of office to newly appointed members; (2) provide Council members with the status of ongoing Council programs and activities; and (3) make plans for future directions.

Dated: February 18, 2000.
Sandra P. Perlmutter,
Executive Director, President's Council on Physical Fitness and Sports.

[JR Dos. 00-4685 Filed 2-28-00; 8:45 am]

BILLING CODE 4160-17-M